DEPARTMENT OF THE INTERIOR

Bureau of Indian Affairs

[156A2100DD/AAKC001030 / A0A501010.999900 253G]

Model Indian Juvenile Code

AGENCY: Bureau of Indian Affairs, Interior.

ACTION: Notice of Availability.

SUMMARY: The Bureau of Indian Affairs is announcing availability of a draft Model Indian Juvenile Code for comment. The draft Model Indian Juvenile Code is intended as a tool to assist Indian Tribes in creating or revising their juvenile codes.

DATES: Comments are due by midnight ET on May 27, 2016. See the SUPPLEMENTARY INFORMATION section of this notice for dates of Tribal consultation sessions.

ADDRESSES: Please submit comments by email to bia_tribal_courts@bia.gov, or by mail to Natasha Anderson, Deputy Associate Director, Tribal Justice Support Directorate, Office of Justice Services, Bureau of Indian Affairs, 1849 C Street NW., Mail Stop 2603, Washington, DC 20240. The full draft Model Indian Juvenile Code is at: http://www.bia.gov/cs/groups/xojs/documents/document/idc1-033097.pdf.

See the SUPPLEMENTARY INFORMATION section of this notice for addresses of Tribal consultation sessions.

FOR FURTHER INFORMATION CONTACT: Natasha Anderson, Deputy Associate Director, Tribal Justice Support Directorate, Office of Justice Services, Bureau of Indian Affairs, at telephone (202) 513-0367.

SUPPLEMENTARY INFORMATION:

I. Background

The BIA initially contracted with the National Indian Justice Center to develop the first Code in 1988 after the passage Public Law 99-570, title IV, § 4221, which required the creation of a “Model Indian Juvenile Code” (25 U.S.C. 2454).

Most codes should be updated on a regular basis; and it has been over 25 years since the initial Model Indian Juvenile Code was created. Additionally, after the passage of the Tribal Law and Order Act of 2010, a Memorandum of Agreement among DOI, DOJ, and DHHS was developed to establish a framework for collaboration that results in the coordination of resources and programs. The MOA specifically referenced 25 U.S.C. 2454 and the Model Indian Juvenile Code.

Since the creation of the initial Model Indian Juvenile Code, much has changed in the field of juvenile justice. Since the late 1980s, many jurisdictions have engaged in reforms of their juvenile justice systems in response to research finding that the standard juvenile justice system model used in the United States showed no impact to juvenile delinquency and may have, in fact, increased delinquency rates. Research has also found that adolescent brains develop later in life than previously thought. Researchers, advocates and policy makers urge changes to the more punitive models of juvenile justice and encourage systems that are more restorative.

After contracting with the Center of Indigenous Research & Justice (CIRJ), the BIA shepherded an “information gathering phase” beginning with a workshop to discuss a plan of action in updating the Code, at the Office on Victims of Crime's National Indian Nations Conference in Palm Springs, California on December 12, 2014. In April 2015, BIA made available a Discussion Draft on the BIA Web site for review and comment. The CIRJ contractor presented details on the Discussion Draft at the 2015 Annual Federal Bar Indian Law Conference. The BIA held a listening session on the Discussion Draft at the 2015 National Congress of American Indians' Mid-Year Conference in Saint Paul, Minnesota. NCAI hosted a follow-up webinar in November 2015 on Juvenile Justice with a focus on the principles of the Model Indian Juvenile Code update.

II. Summary of the Model Indian Juvenile Code

The 2016 Model Indian Juvenile Code is divided into three categories: 1) Delinquency; 2) Child in Need of Services; and 3) Truancy.

The 2015 Model Indian Juvenile Code focuses on several principles including, but not limited to:

• Right to Counsel for Each Child Brought Into the Juvenile Justice System;

• Right to Counsel for Parents;

• Preference for Alternatives to Secure Detention; and

• Numerous Opportunities to Divert Cases Out of Adversarial Process and into Traditional Forums as Preferred by a Particular Tribal Community.

III. Model Indian Juvenile Code

The full draft Model Indian Juvenile Code is available at: http://www.bia.gov/cs/groups/xojs/documents/document/idc1-033097.pdf or by contacting the person listed in the FOR FURTHER INFORMATION CONTACT section of this notice. Further information is available on the Tribal Justice Support Directorate's page at http://www.bia.gov/WhoWeAre/BIA/OJS/ojs-services/ojs-tjs/index.htm.

IV. Opportunity for Comment & Tribal Consultations

The Department will be hosting the following Tribal consultation sessions for input on the Model Indian Juvenile Code: Two teleconference sessions in March 2016, two teleconference sessions in April 2016; and one in-person Listening Session to be held in conjunction with the referenced conference. Please visit the Department's “Consultation” Web page at http://www.indianaffairs.gov/WhoWeAre/AS-IA/Consultation/index.htm for additional information.

Date | Time | Call-In Information
March 30, 2016 | 3:30-5:30 p.m. EST | 800-857-5008, passcode 1291169
March 31, 2016 | 3:30-5:30 p.m. EST | 800-857-5008, passcode 1291169
April 13, 2016 | 3:30-5:30 p.m. EST | 800-857-5008, passcode 1291169
April 14, 2016 | 3:30-5:30 p.m. EST | 800-857-5008, passcode 1291169

The Department will also host the following listening session for input on the Model Indian Juvenile Code in conjunction with the referenced conference.

Date | Time | Location | Venue
April 4, 2016 | 3:30-5:30 p.m. CST | St. Paul, MN | National Indian Child Welfare Association (NICWA) Conference

After receiving comments, the BIA will then publish a link to the final version of the Model Indian Juvenile Code in the Federal Register. The final version will be available in PDF and Word document formats for Tribes to immediately adapt to their needs.

Dated: February 24, 2016.
Lawrence Roberts,
Acting Assistant Secretary—Indian Affairs.

[FR Doc. 2016-04325 Filed 2-26-16; 8:45 am]

BILLING CODE 4337-15-P